DEPARTMENT OF TRANSPORTATION

Federal Aviation Administration

14 CFR Part 39

[Docket No. FAA-2020-1113; Project Identifier MCAI-2020-00893-T; Amendment 39-21580; AD 2021-11-18]

RIN 2120-AA64

Airworthiness Directives; Airbus SAS Airplanes

AGENCY: Federal Aviation Administration (FAA), Department of Transportation (DOT).

ACTION: Final rule.

SUMMARY: The FAA is superseding Airworthiness Directive (AD) 2019-03-10, which applied to all Airbus SAS Model A300 series airplanes; and Model A300 B4-600, B4-600R, and F4-600R series airplanes, and Model A300 C4-605R Variant F airplanes (collectively called Model A300-600 series airplanes). AD 2019-03-10 required repetitive detailed visual inspections of the main landing gear (MLG) leg components and replacement of the MLG leg if cracked components are found. This AD continues to require the actions required by AD 2019-03-10. For certain airplanes, this AD also requires modification of the MLG hinge arm by installing improved MLG hinge arm/barrel pins; an out-of-roundness check of removed pins; repetitive inspections of any affected pins and the associated connecting rod bushes, and replacement of the MLG leg if cracked components are found; and installation of an improved spacer; as specified in a European Union Aviation Safety Agency (EASA) AD, which is incorporated by reference. This AD was prompted by reports of cracks in MLG leg components and a determination that additional actions (including inspections, modifications, and checks) are needed to address the unsafe condition. The FAA is issuing this AD to address the unsafe condition on these products.

DATES: This AD is effective July 16, 2021.

The Director of the Federal Register approved the incorporation by reference of a certain publication listed in this AD as of July 16, 2021.

ADDRESSES: For EASA material incorporated by reference (IBR) in this AD, contact EASA, Konrad-Adenauer-Ufer 3, 50668 Cologne, Germany; telephone +49 221 8999 000; email ADs@easa.europa.eu; internet www.easa.europa.eu. You may find this IBR material on the EASA website at https://ad.easa.europa.eu.

For Safran material that will be IBR in this AD, contact Safran Landing Systems, One Carbon Way, Walton, KY 41094; telephone 859-525-8583; fax 859-485-8827; internet https://www.safran-landing-systems.com.

You may view this IBR material at the FAA, Airworthiness Products Section, Operational Safety Branch, 2200 South 216th St., Des Moines, WA. For information on the availability of this material at the FAA, call 206-231-3195. It is also available in the AD docket on the internet at https://www.regulations.gov by searching for and locating Docket No. FAA-2020-1113.

Examining the AD Docket

You may examine the AD docket on the internet at https://www.regulations.gov by searching for and locating Docket No. FAA-2020-1113; or in person at Docket Operations between 9 a.m. and 5 p.m., Monday through Friday, except Federal holidays. The AD docket contains this final rule, any comments received, and other information. The address for Docket Operations is U.S. Department of Transportation, Docket Operations, M-30, West Building Ground Floor, Room W12-140, 1200 New Jersey Avenue SE, Washington, DC 20590.

FOR FURTHER INFORMATION CONTACT: Dan Rodina, Aerospace Engineer, Large Aircraft Section, International Validation Branch, FAA, 2200 South 216th St., Des Moines, WA 98198; telephone and fax 206-231-3225; email dan.rodina@faa.gov.

SUPPLEMENTARY INFORMATION:

Background

EASA, which is the Technical Agent for the Member States of the European Union, has issued EASA AD 2020-0145, dated July 1, 2020 (EASA AD 2020-0145) (also referred to as the Mandatory Continuing Airworthiness Information, or the MCAI), to correct an unsafe condition for all Airbus SAS Model A300 series airplanes; Model A300-600 series airplanes; and Model A300F4-608ST airplanes. EASA AD 2020-0145 supersedes EASA AD 2018-0170, dated August 6, 2018 (which corresponds to FAA AD 2019-03-10, Amendment 39-19562 (84 FR 5595, February 22, 2019) (AD 2019-03-10)). Model A300F4-608ST airplanes are not certificated by the FAA and are not included on the U.S. type certificate data sheet; this AD therefore does not include those airplanes in the applicability.

The FAA issued a notice of proposed rulemaking (NPRM) to amend 14 CFR part 39 to supersede AD 2019-03-10. AD 2019-03-10 applied to all Airbus SAS Model A300 and A300-600 series airplanes. The NPRM published in the Federal Register on December 8, 2020 (85 FR 78971). The NPRM was prompted by reports of cracks in MLG leg components, and a determination that additional actions (including inspections, modifications, and out-of-roundness checks) are needed to address the unsafe condition. The NPRM proposed to continue to require the actions required by AD 2019-03-10. For certain airplanes, this AD also requires modification of the MLG hinge arm by installing improved MLG hinge arm/barrel pins; an out-of-roundness check of removed pins; repetitive inspections of any affected pins and the associated connecting rod bushes, and replacement of the MLG leg if cracked components are found; and installation of an improved spacer; as specified in an EASA AD.

The FAA is issuing this AD to address cracking of certain components in the MLG leg, which could result in an MLG collapse, and consequent damage to the airplane and injury to the airplane occupants. See the MCAI for additional background information.

Comments

The FAA gave the public the opportunity to participate in developing this final rule. The following presents the comments received on the NPRM and the FAA's response to each comment.

Support for the NPRM

The Air Line Pilots Association, International (ALPA) and an anonymous commenter indicated support for the NPRM.

Request To Clarify Inspection Threshold for Certain Airplanes

United Parcel Service (UPS Airlines) asked that the proposed AD be revised to add a statement to clarify that the general visual inspection (GVI) for Group 2 airplanes begins within 30 months after the effective date of the FAA AD. UPS Airlines stated that it has been accomplishing Airbus Service Bulletin A300-32-6120 at gear overhaul, which replaces the old hinge arm barrel pin with a new hinge arm barrel pin, prior to release of Airbus Service Bulletin A300-32-6121. UPS Airlines further pointed out that Airbus Service Bulletin A300-32-6121 was released after Airbus Service Bulletin A300-32-6120 (pin replacement), and added installation of a new spacer during gear overhaul. UPS Airlines added that EASA AD 2020-0145 does not have clear instructions for the initial inspection start date for airplanes with modifications accomplished using Airbus Service Bulletin A300-32-6120 that have not accomplished Airbus Service Bulletin A300-32-6121. Further, UPS Airlines asserted that this request is in line with the 30-month pin replacement threshold for airplanes equipped with the older pin. Airplanes with the newer pins installed in the past three years without the spacer installation, UPS Airlines also asserted, are less prone to any safety or operational concerns than those with the older pins.

The FAA does not agree with the commenter's request. In developing an appropriate compliance time for this AD, the FAA considered the urgency associated with the subject unsafe condition as well as the recommendations of the manufacturer. The compliance time for the initial GVI for Group 2 airplanes is “Within 30 months after pin replacement,” as specified in EASA AD 2020-0145. Airbus Service Bulletin A300-32-6120, which provides instructions for pin replacement, was issued September 24, 2019. Therefore, the earliest possible compliance time for the inspection would be 30 months from September 24, 2019. The FAA has not changed this AD in this regard.

Conclusion

The FAA reviewed the relevant data, considered the comments received, and determined that air safety and the public interest require adopting this final rule as proposed, except for minor editorial changes. The FAA has determined that these minor changes:

• Are consistent with the intent that was proposed in the NPRM for addressing the unsafe condition; and

• Do not add any additional burden upon the public than was already proposed in the NPRM.

Related Service Information Under 1 CFR Part 51

EASA AD 2020-0145 describes procedures for repetitive detailed visual inspections of the MLG leg components and replacement of the MLG leg if cracked components are found. EASA AD 2020-0145 also describes procedures, for certain airplanes, for modification of the MLG hinge arm by installing improved pins, which would terminate the repetitive detailed inspections required by AD 2019-03-10; an out-of-roundness check of removed pins; repetitive inspections of affected pins and the associated connecting rod bushes for cracking, and replacement of the MLG leg if cracked components are found; and installation of an improved spacer, which would terminate the repetitive pin and rod bushes inspections. EASA AD 2020-0145 also describes procedures for reporting results of the out-of-roundness check to Safran.

Safran Landing Systems has issued Safran Service Bulletin 470-32-840, dated December 3, 2019. This service information describes procedures for inspecting the hinge arm pins of the MLG barrel to detect local out-of-roundness.

This material is reasonably available because the interested parties have access to it through their normal course of business or by the means identified in the ADDRESSES section.

Costs of Compliance

The FAA estimates that this AD affects 128 airplanes of U.S. registry. The FAA estimates the following costs to comply with this AD:

Estimated Costs for Required Actions *
Action | Labor cost | Parts cost | Cost per product | Cost on U.S. operators
Retained actions from AD 2019-03-10 | 1 work-hour × $85 per hour = $85, per inspection cycle | $0 | $85, per inspection cycle | $10,880, per inspection cycle.
New modifications | 180 work-hours × $85 per hour = $15,300 | 17,993 | 33,293 | 4,261,504.
New inspection | 1 work-hour × $85 per hour = $85 | 0 | 85 | 10,880.
New out-of-roundness check | 4 work-hours × $85 per hour = $340 | 0 | 340 | 43,520.
* Table does not include estimated costs for reporting.

The FAA estimates that it would take about 1 work-hour per product to comply with the reporting requirement in this AD. The average labor rate is $85 per hour. Based on these figures, the FAA estimates the cost of reporting the inspection results on U.S. operators to be $85, or $85 per product.

Estimated Costs of On-Condition Actions
Labor cost | Parts cost | Cost per product
20 work-hours × $85 per hour = $1,700 per MLG | $3,400,000 per MLG | $3,401,700 per MLG.

Paperwork Reduction Act

A federal agency may not conduct or sponsor, and a person is not required to respond to, nor shall a person be subject to penalty for failure to comply with a collection of information subject to the requirements of the Paperwork Reduction Act unless that collection of information displays a current valid OMB control number. The control number for the collection of information required by this AD is 2120-0056. The paperwork cost associated with this AD has been detailed in the Costs of Compliance section of this document and includes time for reviewing instructions, as well as completing and reviewing the collection of information. Therefore, all reporting associated with this AD is mandatory. Comments concerning the accuracy of this burden and suggestions for reducing the burden should be directed to the Information Collection Clearance Officer, Federal Aviation Administration, 10101 Hillwood Parkway, Fort Worth, TX 76177-1524.

Authority for This Rulemaking

Title 49 of the United States Code specifies the FAA's authority to issue rules on aviation safety. Subtitle I, section 106, describes the authority of the FAA Administrator. Subtitle VII: Aviation Programs, describes in more detail the scope of the Agency's authority.

The FAA is issuing this rulemaking under the authority described in Subtitle VII, Part A, Subpart III, Section 44701: General requirements. Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

This AD will not have federalism implications under Executive Order 13132. This AD will not have a substantial direct effect on the States, on the relationship between the national government and the States, or on the distribution of power and responsibilities among the various levels of government.

For the reasons discussed above, I certify that this AD:

(1) Is not a “significant regulatory action” under Executive Order 12866,

(2) Will not affect intrastate aviation in Alaska, and

(3) Will not have a significant economic impact, positive or negative, on a substantial number of small entities under the criteria of the Regulatory Flexibility Act.

List of Subjects in 14 CFR Part 39

Air transportation, Aircraft, Aviation safety, Incorporation by reference, Safety.

Adoption of the Amendment

Accordingly, under the authority delegated to me by the Administrator, the FAA amends 14 CFR part 39 as follows:

PART 39—AIRWORTHINESS DIRECTIVES

1. The authority citation for part 39 continues to read as follows:

Authority: 49 U.S.C. 106(g), 40113, 44701.

§ 39.13 [Amended]

2. The FAA amends § 39.13 by:

a. Removing Airworthiness Directive (AD) 2019-03-10, Amendment 39-19562 (84 FR 5595, February 22, 2019); and

b. Adding the following new AD:

2021-11-18 Airbus SAS: Amendment 39-21580; Docket No. FAA-2020-1113; Project Identifier MCAI-2020-00893-T.

(a) Effective Date

This airworthiness directive (AD) is effective July 16, 2021.

(b) Affected ADs

This AD replaces AD 2019-03-10, Amendment 39-19562 (84 FR 5595, February 22, 2019) (AD 2019-03-10).

(c) Applicability

This AD applies to all Airbus SAS airplanes, certificated in any category, identified in paragraphs (c)(1) through (5) of this AD.

(1) Model A300 B2-1A, B2-1C, B2K-3C, B2-203, B4-2C, B4-103, and B4-203 airplanes.

(2) Model A300 B4-601, B4-603, B4-620, and B4-622 airplanes.

(3) Model A300 B4-605R and B4-622R airplanes.

(4) Model A300 F4-605R and F4-622R airplanes.

(5) Model A300 C4-605R Variant F airplanes.

(d) Subject

Air Transport Association (ATA) of America Code 32, Landing Gear.

(e) Reason

This AD was prompted by reports of cracks in main landing gear (MLG) leg components, and a determination that additional actions (including inspections, modifications, and out-of-roundness checks) are needed to address the unsafe condition. The FAA is issuing this AD to address cracking of certain components in the MLG leg, which could result in an MLG collapse, and consequent damage to the airplane and injury to the airplane occupants.

(f) Compliance

Comply with this AD within the compliance times specified, unless already done.

(g) Requirements

Except as specified in paragraph (h) of this AD: Comply with all required actions and compliance times specified in, and in accordance with, European Union Aviation Safety Agency (EASA) AD 2020-0145, dated July 1, 2020 (EASA AD 2020-0145).

(h) Exceptions to EASA AD 2020-0145

(1) Where EASA AD 2020-0145 refers to its effective date, this AD requires using the effective date of this AD.

(2) Where EASA AD 2020-0145 refers to the effective date of EASA AD 2018-0170, this AD requires using March 29, 2019 (the effective date of AD 2019-03-10).

(3) The “Remarks” section of EASA AD 2020-0145 does not apply to this AD.

(4) Paragraph (3) of EASA AD 2020-0145 specifies to “send all removed pins for an out-of-roundness check.” For this AD, do an inspection of each pin for out-of-roundness, in accordance with Safran Service Bulletin 470-32-840, dated December 3, 2019.

(5) Paragraph (3) of EASA AD 2020-0145 specifies to report inspection results to Safran within a certain compliance time. For this AD, report inspection results at the applicable time specified in paragraph (h)(5)(i) or (ii) of this AD.

(i) If the inspection was done on or after the effective date of this AD: Submit the report within 30 days after the inspection.

(ii) If the inspection was done before the effective date of this AD: Submit the report within 30 days after the effective date of this AD.

(i) Other FAA AD Provisions

The following provisions also apply to this AD:

(1) Alternative Methods of Compliance (AMOCs): The Manager, Large Aircraft Section, International Validation Branch, FAA, has the authority to approve AMOCs for this AD, if requested using the procedures found in 14 CFR 39.19. In accordance with 14 CFR 39.19, send your request to your principal inspector or responsible Flight Standards Office, as appropriate. If sending information directly to the Large Aircraft Section, International Validation Branch, send it to the attention of the person identified in paragraph (j) of this AD. Information may be emailed to: 9-AVS-AIR-730-AMOC@faa.gov. Before using any approved AMOC, notify your appropriate principal inspector, or lacking a principal inspector, the manager of the responsible Flight Standards Office.

(2) Contacting the Manufacturer: For any requirement in this AD to obtain instructions from a manufacturer, the instructions must be accomplished using a method approved by the Manager, Large Aircraft Section, International Validation Branch, FAA; or EASA; or Airbus SAS's EASA Design Organization Approval (DOA). If approved by the DOA, the approval must include the DOA-authorized signature.

(3) Required for Compliance (RC): Except as required by paragraph (i)(2) of this AD, if any service information referenced in EASA AD 2020-0145 that contains RC procedures or tests that are identified as RC, those procedures and tests must be done to comply with this AD; any procedures or tests that are not identified as RC are recommended. Those procedures and tests that are not identified as RC may be deviated from using accepted methods in accordance with the operator's maintenance or inspection program without obtaining approval of an AMOC, provided the procedures and tests identified as RC can be done and the airplane can be put back in an airworthy condition. Any substitutions or changes to procedures or tests identified as RC require approval of an AMOC.

(4) Paperwork Reduction Act Burden Statement: A federal agency may not conduct or sponsor, and a person is not required to respond to, nor shall a person be subject to a penalty for failure to comply with a collection of information subject to the requirements of the Paperwork Reduction Act unless that collection of information displays a current valid OMB Control Number. The OMB Control Number for this information collection is 2120-0056. Public reporting for this collection of information is estimated to be approximately 1 hour per response, including the time for reviewing instructions, searching existing data sources, gathering and maintaining the data needed, and completing and reviewing the collection of information. All responses to this collection of information are mandatory as required by this AD. Send comments regarding this burden estimate or any other aspect of this collection of information, including suggestions for reducing this burden to Information Collection Clearance Officer, Federal Aviation Administration, 10101 Hillwood Parkway, Fort Worth, TX 76177-1524.

(j) Related Information

For more information about this AD, contact Dan Rodina, Aerospace Engineer, Large Aircraft Section, International Validation Branch, FAA, 2200 South 216th St., Des Moines, WA 98198; telephone and fax 206-231-3225; email dan.rodina@faa.gov.

(k) Material Incorporated by Reference

(1) The Director of the Federal Register approved the incorporation by reference (IBR) of the service information listed in this paragraph under 5 U.S.C. 552(a) and 1 CFR part 51.

(2) You must use this service information as applicable to do the actions required by this AD, unless this AD specifies otherwise.

(i) European Union Aviation Safety Agency (EASA) AD 2020-0145, dated July 1, 2020.

(ii) Safran Service Bulletin 470-32-840, dated December 3, 2019.

(3) For EASA AD 2020-0145, contact EASA, Konrad-Adenauer-Ufer 3, 50668 Cologne, Germany; telephone +49 221 8999 000; email ADs@easa.europa.eu; internet www.easa.europa.eu. You may find this EASA AD on the EASA website at https://ad.easa.europa.eu.

(4) For Safran service information, contact Safran Landing Systems, One Carbon Way, Walton, KY 41094; telephone 859-525-8583; fax 859-485-8827; internet https://www.safran-landing-systems.com.

(5) You may view this material at the FAA, Airworthiness Products Section, Operational Safety Branch, 2200 South 216th St., Des Moines, WA. For information on the availability of this material at the FAA, call 206-231-3195. This material may be found in the AD docket on the internet at https://www.regulations.gov by searching for and locating Docket No. FAA-2020-1113.

(6) You may view this material that is incorporated by reference at the National Archives and Records Administration (NARA). For information on the availability of this material at NARA, email fedreg.legal@nara.gov, or go to: https://www.archives.gov/federal-register/cfr/ibr-locations.html.

Issued on May 20, 2021.
Lance T. Gant,
Director, Compliance & Airworthiness Division, Aircraft Certification Service.

[FR Doc. 2021-12172 Filed 6-10-21; 8:45 am]

BILLING CODE 4910-13-P